DEPARTMENT OF THE TREASURY

Internal Revenue Service

26 CFR Parts 1 and 20

[TD 9448]

RIN 1545-BH96; RIN 1545-BI56

Use of Actuarial Tables in Valuing Annuities, Interests for Life or Terms of Years, and Remainder or Reversionary Interests; Correction

AGENCY: Internal Revenue Service (IRS), Treasury.

ACTION: Correcting amendment.

SUMMARY: This document contains a correction to final regulations (TD 9448), that were published in the Federal Register on Thursday, May 7, 2009 (74 FR 21438). This regulation relates to the use of actuarial tables in valuing annuities, interests for life or terms of years, and remainder or reversionary interests.

DATES: This correction is effective on June 8, 2009 and is applicable beginning May 1, 2009.

FOR FURTHER INFORMATION CONTACT: Mayer R. Samuels, (202) 622-3090 (not a toll-free number).

SUPPLEMENTARY INFORMATION:

Background

The final regulation (TD 9448) that is the subject of this correction is under sections 170 and 2032 of the Internal Revenue Code.

Need for Correction

As published, TD 9448 contains errors that may prove to be misleading and is in need of clarification.

List of Subjects

26 CFR Part 1

Income taxes, Reporting and recordkeeping requirements.

26 CFR Part 20

Estate taxes, Reporting and recordkeeping requirements.

Correction of Publication

Accordingly, 26 CFR parts 1 and 20 is corrected by making the following correcting amendments:

PART 1—INCOME TAXES

Paragraph 1. The authority citation for part 1 continues to read in part as follows:

Authority: 26 U.S.C. 7805 * * *

Par. 2. For each section listed in the table below, remove the language in the “Remove” column and add in its place the language in the “Add” column as set forth below:

Section | Remove | Add
§ 1.170A-12(e)(2) following the formula | Table 90CM in § 20.2031-7 | Table 2000CM in § 20.2031-7T.

PART 20—ESTATE TAX; ESTATES OF DECEDENTS DYING AFTER AUGUST 16, 1954

Par. 3. The authority citation for part 20 continues to read in part as follows:

Authority: 26 U.S.C. 7805 * * *

Par. 4. Section 20.2032-1 is amended by revising paragraph (f)(1) to read as follows:

§ 20.2032-1 Alternate valuation.

* * * * *

(f) * * *

(1) [Reserved]. Further guidance, see § 20.2032-1T(f)(1).

* * * * *

Treena V. Garrett,
Federal Register Liaison, Publications and Regulations Branch, Legal Processing Division, Associate Chief Counsel (Procedure and Administration).

[FR Doc. E9-13241 Filed 6-5-09; 8:45 am]

BILLING CODE 4830-01-P